SMALL BUSINESS ADMINISTRATION

[Disaster Declaration #20962 and #20963; CALIFORNIA Disaster Number CA-20031]

Presidential Declaration Amendment of a Major Disaster for Public Assistance Only for the State of California

AGENCY: U.S. Small Business Administration.

ACTION: Amendment 1.

SUMMARY: This is an amendment of the Presidential declaration of a major disaster for Public Assistance Only for the State of California (FEMA-4856-DR), dated January 15, 2025.

Incident: Wildfires and Straight-line Winds.

DATES: Issued on February 18, 2025.

Incident Period: January 7, 2025 through January 31, 2025.

Physical Loan Application Deadline Date: March 17, 2025.

Economic Injury (EIDL) Loan Application Deadline Date: October 15, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of California, dated January 15, 2025 is hereby amended to update the incident period for this disaster as beginning January 7, 2025 and continuing through January 31, 2025.

All other information in the original declaration remains unchanged.

(Catalog of Federal Domestic Assistance Number 59008)

James Stallings,
Associate Administrator, Office of Disaster Recovery & Resilience.

[FR Doc. 2025-02950 Filed 2-21-25; 8:45 am]

BILLING CODE 8026-09-P